DEPARTMENT OF TRANSPORTATION

Federal Railroad Administration

[Docket Number FRA-2010-0056]

Notice of Petition for Approval of Positive Train Control Safety Plan

In accordance with Part 211 of Title 49 Code of Federal Regulations (CFR), this document provides the public notice that by a document dated August 29, 2014, BNSF Railway (BNSF) has petitioned for approval of its Positive Train Control Safety Plan (PTCSP) submitted pursuant to the Federal railroad safety regulations contained in 49 CFR part 236, Subpart I, Positive Train Control Systems. FRA assigned the petition Docket Number FRA-2010-0056.

BNSF seeks approval of its PTCSP and system certification for its implementation of the Interoperable Electronic Train Management System (I-ETMS) in accordance with 49 CFR 236.1009, Procedural requirements. BNSF asserts that the PTCSP demonstrates that I-ETMS has been designed as a vital overlay PTC system in compliance with 49 CFR 236.1015, PTC Safety Plan content requirements and PTC System Certification. The PTCSP describes the BNSF I-ETMS implementation and the associated I-ETMS safety processes; safety analyses; and test, validation, and verification processes used during development of I-ETMS. The PTCSP also contains BNSF's operational and support requirements and procedures.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 20, 2015 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on October 14, 2014.
Ron Hynes,
Director, Office of Technical Oversight.

[FR Doc. 2014-24745 Filed 10-17-14; 8:45 am]

BILLING CODE 4910-06-P